DEPARTMENT OF AGRICULTURE

Submission for OMB Review; Comment Request

December 2, 2010.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Reporting and Recordkeeping Requirements for 7 CFR part 29.

OMB Control Number: 0581-0056.

Summary of Collection: The Fair and Equitable Tobacco Reform Act of 2004 (7 U.S.C. 518) eliminated price supports and marketing quotas for all tobacco beginning with the 2005 crop year. Mandatory inspection and grading of domestic and imported tobacco was eliminated as well as the mandatory pesticide testing of imported tobacco and the tobacco Market News Program. The Tobacco Inspection Act (U.S.C. 511) requires that all tobacco sold at designated auction markets in the U.S. be inspected and graded. Provision is also made for interested parties to request inspection, pesticide testing and grading services on an “as needed” basis.

Need and Use of the Information: Information is collected through various forms and other documents for the inspection and certification process. Upon receiving request information from tobacco dealers and/or manufacturers, tobacco inspectors will pull samples and apply U.S. Standard Grades to samples to provide a Tobacco Inspection Certificate (TB-92). Also, samples can be submitted to a USDA laboratory for pesticide testing and a detailed analysis is provided to the customer.

Description of Respondents: Business or other for-profit.

Number of Respondents: 50.

Frequency of Responses: Recordkeeping; Reporting; On occasion.

Total Burden Hours: 3,851.

Agricultural Marketing Service

Title: USDA Food Connect Web site.

OMB Control Number: 0581-0224.

Summary of Collection: The USDA Food Connect Web site (previously known as the USDA Food and Commodity Connection Web site) operates pursuant to the authority of Section 32 of Public Law 320, Section 8 of the Child Nutrition Act of 1966 (42 U.S.C. 1777) and the National School Lunch Program, 7 CFR part 210. It was developed to assist the institutional food service community across the United States. The Web site focuses on providing information to institutional food service professions, as well as providing a platform for processors, distributors, and brokers to post information about their processed USDA supplied commodities and other commercial food products available for institutional food service purchase. The USDA Food Connect Web site provides food related associations a location to provide information on services and materials available from the organization. The Web site is a public Web site and the information provided is considered as public information.

Need and use of the Information: The USDA Food Connect Web site will collect all information electronically at one time upon registration. Each new user must create their individual login and password. There are five types of users; institutional food service professionals, processors, distributors, brokers and food related associations. The Food Connect Web site is designed as a central location in which institutional food service professionals, who provide meals in institutional settings, can locate processors who manufacture foods utilizing USDA provided commodities, distributors who distribute the manufactured food, brokers who represent the processors, and food related associations. No information is collected from a user when they access the Web site as a guest.

Description of Respondents: Business or other for-profit; Farms.

Number of Respondents: 850.

Frequency of Responses: Reporting: Other (One Time).

Total Burden Hours: 280.

Agricultural Marketing Service

Title: Domestic Origin Verification System Questionnaire and Regulations Governing Inspection and Certification of Processed Fruits and Vegetables and Related Products.

OMB Control Number: 0581-0234.

Summary of Collection: The Agricultural Marketing Act of 1946 (7 U.S.C. 1621-1627) directs and authorizes the Department to develop standards of quality, grades, grading programs, and other services to facilitate trading of agricultural products and assure consumers of quality products which are graded and identified under USDA programs. The voluntary inspection and grading services of processed fruits and vegetables are on a fee for service basis. The collection of information regarding the requirement for companies to ensure domestic origin of the products they deliver to the USDA Purchase Program is provided for in the “General Terms and Conditions for Procurement of Agricultural Commodities of Services,” (USDA-1). The Domestic Origin Verification System Program (DOVS) is a voluntary audit and verification user-fee service available to suppliers, processors, and any financially interested party. It is designed to provide validation of the applicant's domestic origin verification system prior to bidding on contracts to supply food products to the Department's Feeding programs, and/or may be conducted after a contract is awarded. Participation in DOVS does not relieve a company of its contractual requirements to provide only domestic origin product to the USDA.

Need and use of the Information: the Agricultural Marketing Services uses various forms to collect data for grading and certification purposes and for hiring licensed samplers. The information collected is used to hire prospective employees desiring to become licensed to sample processed foods and to certify as to the identification, location, kinds and condition of containers of processed products that are sampled.

An interested company requests a DOVS questionnaire, and once completed it contains the applicant's procedures to ensure fruit, nut or vegetable components or products can be traced back to their domestic origin; use of a segregation plan to keep all non-domestic components or products separate from domestic products; for taking corrective action on nonconformities and deficiencies; for checking the adequacy of their internal system of ensuring domestic origin; instructing employees in the domestic origin requirement and for maintaining records relating to the applicant's domestic origin verification system. These elements should be in place whether or not the applicant is on the DOVS program or providing a trace-back on every contract. DOVS assists companies to meet the domestic origin requirement for the USDA Purchase Program efficiently and eliminates the redundancy of the trace paperwork that is required for every USDA contract.

Description of Respondents: Business or other for-profit.

Number of Respondents: 1,160.

Frequency of Responses: Reporting: Annually.

Total Burden Hours: 6,192.

Charlene Parker,
Departmental Information Collection Clearance Officer.

[FR Doc. 2010-30648 Filed 12-6-10; 8:45 am]

BILLING CODE 3410-02-P